DEPARTMENT OF COMMERCE

International Trade Administration

[C-351-504]

Heavy Iron Construction Castings from Brazil: Final Results of Expedited Fourth Sunset Review of the Countervailing Duty Order

AGENCY: Enforcement and Compliance, International Trade Administration, Department of Commerce.

SUMMARY: The Department of Commerce (the Department) finds that revocation of the countervailing duty order (CVD) order on heavy iron construction castings (heavy iron castings) from Brazil would be likely to lead to continuation or recurrence of a countervailable subsidy at the levels indicated in the “Final Results of Review” section of this notice.

DATES: Effective Date: February 5, 2016.

FOR FURTHER INFORMATION CONTACT: Patricia Tran, Office III, AD/CVD Operations, Enforcement and Compliance, International Trade Administration, U.S. Department of Commerce, 14th Street and Constitution Avenue NW., Washington, DC 20230; telephone: (202) 482-1503.

SUPPLEMENTARY INFORMATION:

Background

On October 1, 2015, the Department initiated a sunset review of the CVD order on castings from Brazil pursuant to section 751(c) of the Tariff Act of 1930, as amended (the Act).¹ The Department received a notice of intent to participate in the review on behalf of D&L Foundry, EJ USA, Inc. (previously known as East Jordan Iron Works, Inc.), Neenah Foundry Company, and U.S. Foundry & Manufacturing Corp. (collectively, the domestic industry) within the deadline specified in 19 CFR 351.218(d)(1)(i).² Each of these companies claimed interested party status under section 771(9)(C) of the Act, as a domestic producer of the domestic like product.

¹ See Initiation of Five-Year (Sunset) Review, 80 FR 190 (October 1, 2015).

² See Letter to Secretary of Commerce, “Sunset Reviews of Antidumping Duty Orders on Certain Iron Construction Castings From Brazil, Canada, and China; and Countervailing Duty Order on Heavy Iron Construction Castings From Brazil,” (October 16, 2015).

The Department received adequate substantive responses collectively from the domestic industry within the 30-day deadline specified in 19 CFR 351.218(d)(3)(i).³ The Department did not receive a substantive response from any government or respondent interested party to the proceeding. Because the Department received no response from the respondent interested parties, the Department conducted an expedited review of this CVD order, pursuant to section 751(c)(3)(B) of the Act and 19 CFR 351.218(e)(1)(ii)(C)(2).

³ See Letter to Secretary of Commerce, “Iron Construction Castings From Brazil; Five-Year (“Sunset”) Review of Countervailing Duty Order Response,” (November 2, 2015).

Scope of the Order

The merchandise subject to the CVD order is castings from Brazil. The product is currently classified under the Harmonized Tariff Schedule of the United States (“HTSUS”) item number 7325.10.00. Although the HTSUS number is provided for convenience and customs purposes, the written product description remains dispositive. For a full description of the scope, see Issues and Decision Memorandum, which is hereby adopted by this notice (Issues and Decision Memorandum).⁴

⁴ See Department Memorandum, “Issues and Decision Memorandum for the Final Results of Expedited Fourth Sunset Review of the Countervailing Duty Order on Heavy Iron Construction Castings from Brazil,” dated concurrently with this final notice.

The Issues and Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed at http://enforcement.trade.gov/frn/. The signed Issues and Decision Memorandum and the electronic version of the Issues and Decision Memorandum are identical in content.

Analysis of Comments Received

All issues raised in this review are addressed in the Issues and Decision Memorandum. The issues discussed in the Issues and Decision Memorandum address the likelihood of continuation or recurrence of a countervailable subsidy, the net countervailable subsidy likely to prevail if the order were revoked, and the nature of the subsidy.

Final Results of Review

Pursuant to section 752(b)(1) and (3) of the Act, we determine that revocation of the CVD order on heavy iron castings from Brazil would be likely to lead to continuation or recurrence of a countervailable subsidy at the rate listed below:

Exporter/manufacturer | Net subsidy rate
Country-wide rate | 1.06 percent ad valorem

Notification Regarding Administrative Protective Order

This notice serves as the only reminder to parties subject to administrative protective order (APO) of their responsibility concerning the return or destruction of proprietary information disclosed under APO in accordance with 19 CFR 351.305. Timely notification of return/destruction of APO materials or conversion to judicial protective order is hereby requested. Failure to comply with the regulations and the terms of an APO is a violation which is subject to sanction.

The Department is issuing and publishing these final results and notice in accordance with sections 751(c), 752(b), and 777(i)(1) of the Act and 19 CFR 351.218.

Dated: January 28, 2016.
Ronald K. Lorentzen,
Acting Assistant Secretary for Enforcement and Compliance.

[FR Doc. 2016-02286 Filed 2-4-16; 8:45 am]

BILLING CODE 3510-DS-P